DEPARTMENT OF HEALTH AND HUMAN SERVICES

National Institutes of Health

Center for Scientific Review; Amended Notice of Meeting

Notice is hereby given of a change in the meeting of the Center for Scientific Review Special Emphasis Panel, October 07, 2013, 01:00 p.m. to October 07, 2013, 02:00 p.m., Hotel Monaco Alexandria, 480 King Street, Alexandria, VA 22314, which was published in the Federal Register on September 10, 2013, 78 FR 175 Pgs. 55268-55270.

The meeting will start on December 9, 2013 at 1:00 p.m. and end December 9, 2013 at 2:00 p.m. The meeting location remains the same. The meeting is closed to the public.

Dated: October 30, 2013.
David Clary,
Program Analyst, Office of Federal Advisory Committee Policy.

[FR Doc. 2013-26303 Filed 11-1-13; 8:45 am]

BILLING CODE 4140-01-P